DEPARTMENT OF THE INTERIOR

Bureau of Land Management

[ID-933-1430-DET; IDI-14647]

Public Land Order No. 7484; Revocation of a Bureau of Land Management Order dated January 28, 1952; Idaho

AGENCY: Bureau of Land Management, Interior.

ACTION: Public land order.

SUMMARY: This order revokes a Bureau of Land Management order as it affects the remaining public lands withdrawn for the Bureau of Reclamation's Mountain Home Reclamation Project. The lands are no longer needed for the purposes for which they were withdrawn and the revocation is needed to consummate a pending land exchange. This action will open the lands to surface entry and mining, unless included in other segregations of record. The lands have been and will remain open to mineral leasing.

EFFECTIVE DATE: June 4, 2001.

FOR FURTHER INFORMATION CONTACT: Jackie Simmons, BLM Idaho State Office, 1387 S. Vinnell Way, Boise, Idaho 83709, 208-373-3867.

By virtue of the authority vested in the Secretary of the Interior by Section 204 of the Federal Land Policy and Management Act of 1976, 43 U.S.C. 1714 (1994), it is ordered as follows:

1. The Bureau of Land Management Order dated January 28, 1952, which withdrew public lands for the Bureau of Reclamation's Mountain Home Reclamation Project, is hereby revoked in its entirety.

2. At 9 a.m. on June 4, 2001, the lands described in paragraph 1 will be opened to the operation of the public land laws generally, subject to valid existing rights, the provisions of existing withdrawals, other segregations of record, and the requirements of applicable law. All valid applications received at or prior to 9 a.m. on June 4, 2001, shall be considered as simultaneously filed at that time. Those received thereafter shall be considered in the order of filing.

3. At 9 a.m. on June 4, 2001, the lands described in paragraph 1 will be opened to location and entry under the United States mining laws, subject to valid existing rights, the provisions of existing withdrawals, other segregations of record, and the requirements of applicable law. Appropriation of any of the lands described in this order under the general mining laws prior to the date and time of restoration is unauthorized. Any such attempted appropriation, including attempted adverse possession are governed by State law where not in conflict with Federal law. The Bureau of Land Management will not intervene in disputes between rival locators over possessory rights since Congress has provided for such determinations in local courts.

Dated: April 12, 2001.
Gale A. Norton,
Secretary of the Interior.

[FR Doc. 01-11120 Filed 5-2-01; 8:45 am]

BILLING CODE 4310-GG-P